ENVIRONMENTAL PROTECTION AGENCY

[OA-2003-0008, FRL-7608-4]

Agency Information Collection Activities; Proposed Collection; Comment Request; National Environmental Performance Track (Performance Track) Outreach Award Application, Mentoring Program Registration, and Customer Satisfaction Questionnaire, EPA ICR Number 1949.04

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): National Environmental Performance Track (Performance Track) Outreach Award Application, Mentoring Program Registration, and Customer Satisfaction Questionnaire (EPA ICR No. 1949.04). This is a request for a new collection. Before submitting the ICR to OMB for review and approval, EPA is soliciting comments on specific aspects of the proposed collection as described below.

DATES: Comments must be submitted on or before March 8, 2004.

ADDRESSES: Follow the detailed instructions in SUPPLEMENTARY INFORMATION.

FOR FURTHER INFORMATION CONTACT: Lisa Grogan, Office of Policy, Economics and Innovation, Mail Code 1808T, Environmental Protection Agency, 1200 Pennsylvania Avenue NW., Washington, DC 20460; telephone number: 202-566-2981; fax number: 202-566-0292; e-mail address: Grogan.Lisa@epa.gov.

SUPPLEMENTARY INFORMATION: EPA has established a public docket for this ICR under Docket ID No. OA-2003-0008, which is available for public viewing at the Office of Environmental Information Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” and then key in the docket ID number identified above.

Any comments related to this ICR should be submitted to OMB and EPA within 60 days of this notice, and according to the following detailed instructions: (1) Mail your comments to OMB at: Office of Information and Regulatory Affairs, Office of Management and Budget (OMB), Attention: Desk Officer for EPA, 725 17th Street, NW., Washington, DC 20503, and (2) Submit you comments to EPA online using EDOCKET (our preferred method), by e-mail to: oei.docket@epa.gov, or by mail to: EPA Docket Center, Environmental Protection Agency, Office of Environmental Information Docket, Mail Code 28221T, 1200 Pennsylvania Avenue, NW., Washington, DC 20460.

EPA's policy is that comments, whether submitted electronically or in paper, will be made available for public viewing in EDOCKET as EPA receives them and without change, unless the comment contains copyrighted material, CBI or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected Entities: Potentially affected entities are facilities and/or organizations that are currently, or are considering becoming, members of EPA's National Environmental Performance Track Program.

Title: National Environmental Performance Track (Performance Track) Outreach Award Application, Mentoring Program Registration, and Customer Satisfaction Questionnaire (EPA ICR Number 1949.04).

Abstract: EPA announced the National Environmental Performance Track Program on June 26, 2000. The program is designed to recognize and encourage facilities that consistently meet their legal requirements, that have implemented management systems to monitor and improve performance, that have voluntarily achieved environmental improvements beyond compliance, and that publicly commit to specific environmental improvements and report on progress. There are currently 309 facilities that are members of this voluntary program. This ICR proposes adding the following three components to the Performance Track Program to strengthen and expand membership:

Performance Track Outreach Award Application

The Performance Track Outreach Award is sponsored by the EPA's Performance Track Program. While Performance Track rewards all members for their commitment to improving their role in protecting the environment, the Outreach Award is a special award offered to current members and partners who are educating the public and encouraging prospective facilities to join Performance Track. Educating prospective facilities on the merits of joining the program helps increase membership in the Performance Track program, which in turn provides additional environmental benefits as more and more facilities make commitments to continuous environmental improvement.

Outreach Award applications are submitted voluntarily by any facility or organization that was a member or partner of Performance Track during the calendar year. To be considered for the award, facilities/organizations may self-nominate or may be nominated by other facilities, local or state entities, or EPA Performance Track staff. Nominating facilities will be asked to complete and submit a short nomination application containing facility and contact information, as well as asking the nominating facility to list activities performed to be considered for the Outreach Award. All applications will be reviewed by a panel of EPA judges and the recipients of the Outreach Award will be announced at the following year's Annual Member Event.

Performance Track Mentoring Program Registration

The Performance Track Mentoring Program is a voluntary program developed to facilitate information sharing among facilities and help potential Performance Track applicants improve their environmental performance and strengthen their Performance Track applications. The Performance Track Mentoring Program is available to any facility that is considering applying to the Performance Track program and that is seeking personal assistance in setting environmental goals from the top performing facilities currently in the program. Facilities seeking to participate in the Performance Track Mentoring Program will be asked to submit a short registration form that includes facility and contact information, whether the facility seeks to serve as a mentor or mentee, and what areas of the Performance Track program the facility wishes to provide/receive assistance. Mentees are matched together with Performance Track sites that volunteer their time and resources to share their experiences and expertise in environmental best practices.

EPA believes establishing a mentor/mentee program will help it increase membership in Performance Track and allow current members to share their expertise in environmental best practices with facilities that are considering becoming members in Performance Track. This sharing of knowledge will facilitate establishment of meaningful and achievable performance goals for potential members, and will provide an additional source of information available to potential members about the Performance Track program's application process. EPA believes this feedback will strengthen the quality of potential members' applications and streamline the application process.

Performance Track Customer Satisfaction Questionnaire

EPA is interested in improving and increasing the value that Performance Track members receive from the Performance Track Program through membership services. EPA plans to gather feedback from all current Performance Track members through a voluntary Customer Satisfaction Questionnaire. Current Performance Track members reflect a broad array of industry categories and their opinions about the program's effectiveness and level of service will be used to shape the development of future member services. The questionnaire will assess the satisfaction level of current members as well as identify improvements to services that the program can implement to increase long-term member satisfaction. The questionnaire will ascertain the following information: Program benefits and services that are important to members; member satisfaction with current services; potential improvements in communicating with members about the program; the level of promotion/publicity that members desire for their participation in the program; and any additional benefits and services that would increase member satisfaction.

The Customer Satisfaction Questionnaire will be administered online, to reduce the burden on respondents and encourage a high response rate. All current members, along with approximately 12 corporate level representatives of participating facilities, will receive e-mail notification with passwords to allow them access to the survey. The questionnaire will be administered for one month to further encourage a high response rate, allowing EPA to accurately assess member satisfaction and desired improvements to the program. The questionnaire responses will be analyzed in a report at the conclusion of the one-month survey period. The questionnaire will serve to assess satisfaction and identify improvements in future years as well, as EPA plans to administer the survey on a biennial schedule.

An agency may not conduct or sponsor, and a person is not required to respond to, a collection of information unless it displays a currently valid OMB control number. The OMB control numbers for EPA's regulations are listed in 40 CFR part 9 and 48 CFR chapter 15, and are identified on the form and/or instrument, if applicable.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical or other technological collection techniques or other forms of information technology, e.g., permitting electronic submission of responses.

Burden Statement: The burden for information collection requirements associated with the Outreach Award Application is estimated to be 1.5 hours per respondent. The burden estimate includes time to review the instructions, gather information, and complete and submit the application. EPA plans to collect this information annually and estimates between 27 and 42 respondents per year over the life of this ICR at a cost of $112 per response.

The burden for information collection requirements associated with the Mentoring Program Registration Form is estimated to be 0.25 hours per respondent. The burden estimate includes time to review the registration form, and complete and submit the registration. EPA plans to collect this information annually and estimates between 39 and 60 respondents per year over the life of this ICR at a cost of $19 per response.

The burden for information collection requirements associated with the Customer Satisfaction Questionnaire is estimated to be 0.5 hours per respondent. The burden estimate includes time to read the instructions for the questionnaire and complete the online survey. EPA plans to administer the questionnaire on a biennial schedule and estimates 358 and 554 respondents for year one and year three, respectively, at a cost of $37 per response.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 19, 2003.
Daniel Fiorino,
Director, Performance Incentives Division.

[FR Doc. 04-375 Filed 1-7-04; 8:45 am]

BILLING CODE 6560-50-P